DEPARTMENT OF THE INTERIOR

U.S. Geological Survey

Scientific Earthquake Studies Advisory Committee

AGENCY: U.S. Geological Survey, Interior.

ACTION: Notice of meeting.

SUMMARY: Pursuant to Public Law 106-503, the Scientific Earthquake Studies Advisory Committee (SESAC) will hold its next meeting at the Incorporated Research Institutions for Seismology, 1200 New York Avenue, Suite 800, Washington, DC 20005. The Committee is comprised of members from academia, industry, and State government. The Committee shall advise the Director of the U.S. Geological Survey (USGS) on matters relating to the USGS's participation in the National Earthquake Hazards Reduction Program.

The Committee will receive updates and provide guidance on Earthquake Hazards Program activities and the status of teams supported by the Program.

Meetings of the Scientific Earthquake Studies Advisory Committee are open to the public.

DATES: November 2-3, 2011, commencing at 8:30 a.m. on the first day and adjourning at Noon on November 3, 2011.

Contact: Dr. William Leith, U.S. Geological Survey, MS 905, 12201 Sunrise Valley Drive, Reston, Virginia 20192, (703) 648-6786, wleith@usgs.gov.

Dated: September 21, 2011.
David Applegate,
Associate Director for Natural Hazards.

[FR Doc. 2011-25401 Filed 9-30-11; 8:45 am]

BILLING CODE P